DEPARTMENT OF LABOR

Occupational Safety and Health Administration

29 CFR Part 1926

[Docket # S-018]

RIN 1218-AB88

Safety Standards for Signs, Signals, and Barricades

AGENCY: Occupational Safety and Health Administration, Labor.

ACTION: Proposed rule; request for comments.

SUMMARY: The Occupational Safety and Health Administration (OSHA) is proposing to amend construction industry standards to require that traffic control signs, signals, barricades or devices protecting construction workers conform to Part VI of the 1988 Edition of the Federal Highway Administration (FHWA) Manual on Uniform Traffic Control Devices (MUTCD), with 1993 revisions (Revision 3) or the Millennium Edition of the FHWA MUTCD (Millennium Edition), instead of the American National Standards Institute (ANSI) D6.1-1971, Manual on Uniform Traffic Control Devices for Streets and Highways (1971 MUTCD). This action is consistent with OSHA's June 16, 1999 interpretation letter stating that the agency would allow employers to comply with Revision 3 in lieu of the 1971 MUTCD.

Because OSHA believes the amendment is non-controversial, the Agency is issuing it as a Direct Final Rule published in the Final Rules section of today's Federal Register. If no significant adverse comment is received on the Direct Final Rule, OSHA will confirm the effective date of the Final Rule. If significant adverse comment is received, OSHA will withdraw the Direct Final Rule and proceed with rulemaking on this proposal. A subsequent Federal Register document will be published to announce OSHA's action.

DATES: Written comments and requests for a hearing on this proposed rule must be submitted or sent electronically by June 14, 2002.

ADDRESSES: Submit three copies of written comments to OSHA Docket Office, Docket No. S-018, U.S. Department of Labor, 200 Constitution Avenue NW., Room N-2625, Washington, DC 20210; telephone (202-693-2350).

If written comments are 10 pages or fewer, you may fax them to the OSHA Docket Office telephone number (202) 693-1648.

You may submit comments electronically through OSHA's Homepage at ecomments.osha.gov. Please note that you may not attach materials such as studies or journal articles to your electronic comments. If you wish to include such materials, you must submit three copies to the OSHA Docket Office at the address listed above. When submitting such materials to the OSHA Docket Office, you must clearly identify your electronic comments by name, date, and subject, so that we can attach the materials to your electronic comments.

How to obtain copies of the MUTCD: The 1988 Edition of the Manual on Uniform Traffic Control Devices (Revision 3, dated 9/93, with the November 1994 Errata No. 1 is available for downloading from OSHA's website: http://www.osha.gov./doc/highway_workzones. In addition, Revision 3 is available for viewing and copying at each OSHA Area Office. The Millennium Edition is available for downloading from DOT's website: http://mutcd.fhwa.dot.gov/kno-millennium. The Federal Highway Administration partnered with three organizations to print copies of the Millennium Edition Manual of Uniform Traffic Control Devices for sale. The organizations are: (1) American Traffic Safety Services Association, 15 Riverside Parkway, Suite 100, Fredericksburg, VA 22406-1022; Telephone: 1-800-231-3475; FAX: (540) 368-1722; www.atssa.com; (2) Institute of Transportation Engineers, 1099 14th Street, NW., Suite 300 West, Washington, DC 20005-3438; FAX: (202) 289-7722; ; www.ite.org; and (3) American Association of State Highway and Transportation Officials; www.aashto.org; Telephone: 1-800-231-3475; FAX: 1-800-525-5562.

FOR FURTHER INFORMATION CONTACT: Nancy Ford, Office of Construction Standards and Construction Services, Occupational Safety and Health Administration, U.S. Department of Labor, Room N-3468, 200 Constitution Avenue, NW., Washington, DC 20210; telephone: (202) 693-2345.

SUPPLEMENTARY INFORMATION:

Background

This proposed rule applies to employers involved in road construction and repair operations. It addresses the types of signs, signals, and barricades that must be used in areas where road-work is being performed. A complete discussion of the changes noted in Revision 3 and the Millenium Edition, as well as an economic analysis, is published in the preamble to the Direct Final Rule. That discussion is incorporated in this proposal.

Public Participation

Interested persons are requested to submit written data, views, and arguments concerning this proposed rule. These comments must be received by June 14, 2002.

OSHA requests comments on all issues related to changing the references in the safety and health regulations for construction from the 1971 MUTCD to Revision 3 of the 1988 Edition (and, at the option of the employer, the Millennium Edition). OSHA also welcomes comments on the Agency's findings that there are no significant negative economic, environmental or other regulatory impacts of this action on the regulated community. OSHA is not requesting comment on any issues or opening the record for any issue other than those related to this amendment to 29 CFR 1926.200, 201, and 1926.202.

Submit three copies of written comments to OSHA Docket Office, Docket No. S-018, Docket Office, U.S. Department of Labor, 200 Constitution Avenue NW., Room N-2625, Washington, DC 20210; telephone (202-693-2350).

If written comments are 10 pages or fewer, you may fax them to the OSHA Docket Office telephone number (202) 693-1648.

You may submit comments electronically through OSHA's Homepage at ecomments.osha.gov. Please note that you may not attach materials such as studies or journal articles to your electronic comments. If you wish to include such materials, you must submit three copies to the OSHA Docket Office at the address listed above. When submitting such materials to the OSHA Docket Office, you must clearly identify your electronic comments by name, date, and subject, so that we can attach the materials to your electronic comments.

All written comments received within the specified comment period will be made a part of the record and will be available for public inspection and copying at the above Docket Office address.

List of Subjects in 29 CFR Part 1926

Incorporation by reference, MUTCD, Occupational Safety and Health, Traffic control devices.

Authority and Signature

This document was prepared under the direction of John Henshaw, Assistant Secretary of Labor for Occupational Safety and Health, 200 Constitution Avenue, NW., Washington, DC 20210.

This action is taken pursuant to sections 4, 6, and 8 of the Occupational Safety and Health Act of 1970 (29 U.S.C. 653, 655, 657), section 4 of the Administrative Procedure Act (5 U.S.C. 553), Section 107 of the Contract Work Hours and Safety Standards Act (Construction Safety Act), 40 U.S.C. 333, Secretary of Labor's Order No. 3-2000 (65 FR 50017, August 16, 2000), and 29 CFR Part 1911.

Signed at Washington, DC, this 3rd day of April, 2002.
John Henshaw,
Assistant Secretary of Labor.

OSHA proposes to amend Subpart G of Title 29 of the Code of Federal Regulations as set forth below:

PART 1926—(AMENDED)

1. The authority citation for Subpart G of Part 1926 is revised to read as follows:

Authority: Sec. 107, Contract Work Hours and Safety Standards Act (Construction Safety Act) (40 U.S.C. 333); secs. 4, 6, 8, Occupational Safety and Health Act of 1970 (29 U.S.C. 653, 655, 657); Secretary of Labor's Order No. 12-71 (36 FR 8754), 8-76 (41 FR 25059), 9-83 (48 FR 35736), or 3-2000 (65 FR 50017) as applicable; 29 CFR Part 1911.

Subpart G [Proposed Amendments]

2. Paragraph (g)(2) of § 1926.200 is revised to read as follows:

§ 1926.200 Accident Prevention Signs and Tags

* * * * *

(g) * * *

(2) All traffic control signs or devices used for protection of construction workers shall conform to Part VI of the Manual of Uniform Traffic Control Devices (“MUTCD”), 1988 Edition, Revision 3, September 3, 1993, FHWA-SA-94-027 or Part VI of the Manual on Uniform Traffic Control Devices, Millennium Edition, December 2000, FHWA, which are incorporated by reference. The Director of the Federal Register approves this incorporation by reference in accordance with 5 U.S.C. 552(a) and 1 CFR Part 51. You may obtain a copy of the Millennium Edition from the following organizations: American Traffic Safety Services Association, 15 Riverside Parkway, Suite 100, Fredericksburg, VA 22406-1022; Telephone: 1-800-231-3475; FAX: (540) 368-1722; www.atssa.com; Institute of Transportation Engineers, 1099 14th Street, NW., Suite 300 West, Washington, DC 20005-3438; FAX: (202) 289-7722; www.ite.org; and American Association of State Highway and Transportation Officials; www.aashto.org; Telephone: 1-800-231-3475; FAX: 1-800-525-5562. Electronic copies of the MUTCD 2000 are available for downloading at http://mutcd.fhwa.dot.gov/kno-millennium. Electronic copies of the 1988 Edition MUTCD, Revision 3, are available for downloading at http://www.osha.gov./doc/highway_workzones. Both documents are available for inspection at the OSHA Docket Office, Room N2625, U.S. Department of Labor, 200 Constitution Avenue, NW., Washington, DC 20210 or at the Office of the Federal Register, 800 North Capitol Street, NW., Suite 700, Washington, DC.

* * * * *

3. Paragraph (a) of § 1926.201 is revised to read as follows:

§ 1926.201 Signaling.

(a) Flaggers. Signaling by flaggers and the use of flaggers, including warning garments worn by flaggers shall conform to Part VI of the Manual on Uniform Traffic Control Devices, (1988 Edition, Revision 3 or the Millennium Edition), which are incorporated by reference in §1926.200(g)(2).

* * * * *

4. Section 1926.202 is revised to read as follows:

§ 1926.202 Barricades

Barricades for protection of employees shall conform to Part VI of the Manual on Uniform Traffic Control Devices (1988 Edition, Revision 3 or Millennium Edition), which are incorporated by reference in § 1926.200(g)(2).

5. Paragraph (c) of § 1926.203 is revised to read as follows:

§ 1926.203 Definitions applicable to this subpart.

* * * * *

(c) Signals are moving signs, provided by workers, such as flaggers, or by devices, such as flashing lights, to warn of possible or existing hazards.

* * * * *

[FR Doc. 02-8774 Filed 4-12-02; 8:45 am]

BILLING CODE 4510-26-P